DEPARTMENT OF THE INTERIOR

Bureau of Land Management

[LLCAC09000.L58790000.EU0000.LXSS008B0000; CACA 50168]

Notice of Realty Action: Competitive Sale of Public Land in Santa Clara County, CA

AGENCY: Bureau of Land Management, Interior.

ACTION: Notice of Realty Action.

SUMMARY: The Bureau of Land Management (BLM), Hollister Field Office, proposes to sell a parcel of public land totaling approximately 23.42 acres, more or less, in Santa Clara County, California. The public land would be sold for appraised fair market value. The appraised value of the public land is $135,000.

DATES: Comments regarding the proposed sale must be received by the BLM on or before January 12, 2012.

ADDRESSES: Written comments concerning the proposed sale should be sent to the Field Manager, BLM, Hollister Field Office, 20 Hamilton Court, Hollister, California 95023.

FOR FURTHER INFORMATION CONTACT: Christine Sloand, Realty Specialist, BLM, Hollister Field Office, 20 Hamilton Court, Hollister, California 95023, or phone (831) 630-5022.

SUPPLEMENTARY INFORMATION: The following public land is proposed for competitive sale in accordance with Sections 203 and 209 of the Federal Land Policy and Management Act of 1976 (FLPMA), as amended (43 U.S.C. 1713 and 1719).

Mount Diablo Meridian

T. 10 S., R. 2 E.,

Sec. 5, lot 2.

The area described contains 23.42 acres, more or less, in Santa Clara County, California.

Appraised fair market value: $135,000.

The public land was first identified as suitable for disposal in the 1984 BLM Hollister Resource Management Plan (RMP) and remains available for sale under the 2007 Hollister RMP revision. The land is not needed for any other Federal purpose, and its disposal would be in the public interest. The land is difficult and uneconomic to manage as part of the public lands because it lacks legal access and is isolated from other public lands. The BLM has concluded the public interest would be best served by a competitive sale. The BLM has completed a mineral potential report which concluded there are no known mineral values in the land proposed for sale. The BLM proposes that conveyance of the Federal mineral interests would occur simultaneously with the sale of the land. The purchaser would be required to pay a $50 nonrefundable filing fee for the conveyance of the mineral interests.

On November 28, 2011, the above described land will be segregated from appropriation under the public land laws, including the mining laws, except for the sale provisions of FLPMA. Until completion of the sale, the BLM will no longer accept land use applications affecting the identified public land, except applications for the amendment of previously filed right-of-way applications or existing authorizations to increase the term of the grants in accordance with 43 CFR 2802.15 and 2886.15. The segregation will terminate upon issuance of a patent, publication in the Federal Register of a termination of the segregation, or on November 28, 2013, unless extended by the BLM State Director in accordance with 43 CFR 2711.1-2(d) prior to the termination date. The land would not be sold until at least January 27, 2012. Any patent issued would contain the following terms, conditions, and reservations:

1. A reservation of a right-of-way to the United States for ditches and canals constructed by authority of the United States under the Act of August 30, 1890 (43 U.S.C 945);

2. A condition that the conveyance be subject to all valid existing rights of record;

3. An appropriate indemnification clause protecting the United States from claims arising out of the patentee's use, occupancy, or operations on the patented lands;

4. Additional terms and conditions that the authorized officer deems appropriate.

Detailed information concerning the proposed sale including the appraisal, planning and environmental documents, and mineral report are available for review at the location identified in ADDRESSES above.

Public Comments regarding the proposed sale may be submitted in writing to the attention of the BLM Hollister Field Manager (see ADDRESSES above) on or before January 12, 2012. Comments received in electronic form, such as email will not be considered. Any adverse comments regarding the proposed sale will be reviewed by the BLM State Director or other authorized official of the Department of the Interior, who may sustain, vacate, or modify this realty action in whole or in part. In the absence of timely filed objections, this realty action will become the final determination of the Department of the Interior. Before including your address, phone number, email address, or other personal identifying information in your comment, be advised that your entire comment—including your personal identifying information—may be made publicly available at any time. While you can ask us in your comment to withhold from public review your personal identifying information, we cannot guarantee that we will be able to do so.

Authority: 43 CFR 2711.1-2(a) and (c)

Tom Pogacnik,
Deputy State Director for Natural Resources.

[FR Doc. 2011-30491 Filed 11-25-11; 8:45 am]

BILLING CODE 4310-40-P